FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants:

G.P. Logistics, Inc., 1426 NW 82nd Avenue, Miami, FL 33122. Officers: Byron E. Keeler, President (Qualifying Individual) Luis Rugeles, Vice President.

Transworld Line International, Inc., dba Transworld Line, 13 Bridge Street, Metuchen, NJ 08840. Officers: Shawn Mak, Director (Qualifying Individual) Huang Yu Lin, President.

2090 Quisqueya Shipping, Inc., 2090 Amsterdam Avenue, New York, NY 10032. Officer: Porfirio Munoz, President (Qualifying Individual).

Prime Freight Forwarders, Inc., 29278 Union City Blvd., Union City, CA 94507. Officers: Rajendra Lal, Corporate Secretary (Qualifying Individual) Rohit Sikka, Vice President.

CHK Freight Inc., 10 Whitehall Road, E. Brunswick, NJ 08816. Officers: Chin Hsien Kao, Vice President (Qualifying Individual) Shih Ju Lee, President.

Embarque El Malecon, Inc., 441 E. 180th Street, Bronx, NY 10457.

Officer: Felix Brito, President (Qualifying Individual).

Stevens Global Logistics, Inc. dba Stevens, Global Freight Services, 704 Hindry Avenue, Inglewood, CA 90301. Officers: Thomas Petrizzio, CEO (Qualifying Individual) Larry Coyle, President.

TX Freight, Inc., 13250 Don Julian Road, La Puente, CA 91746. Officer: Shi Qing Tsou, CEO (Qualifying Individual).

J.G River Shipping, 948 Columbus Avenue, New York, NY 10025. Juan Garcia Sole Proprietor.

Non-Vessel-Operating Common Carrier and Ocean Freight Forwarder Transportation Intermediary Applicant:

Union Cargo, Inc., 8750 NW 101 Street, Medley, FL 33178. Officer: Maria V. Bartsch, Gen. Manager (Qualifying Individual) Maria De Cardona, President.

Darpex Import & Export Corp., 5543 NW 72nd Avenue, Miami, FL 33166. Officer: Dario Pereyra, President (Qualifying Individual).

Tarratrans, LLC, 123 South Avenue, 3rd Floor, Westfield, NJ 07090. Officer: Vincent Mongno, Director (Qualifying Individual).

Atlantic Coast Trading, Inc., 3563 NW 82nd Avenue, Miami, FL 33122. Officers: Araceli Arteaga, President (Qualifying Individual) Vincente Valcarpe, Vice President.

MHX International LLC, 300 David Lane, Roselle, IL 60172. Officers: Maria R. Coble, Active Partner Homer H. Coble, Active Partner (Qualifying Individuals).

GAAB International Logistics, Inc., 5539 NW 72nd Avenue, Miami, FL 33166. Officers: Juan Abreu, Vice President (Qualifying Individual) Maria Abreu, President.

E C F Freight Forwarding Corp dba E C F, dba Freight Forwarding, 170 Preston Street, Ridgefield Park, NJ 07660. Officer: Angela C. Gonzalez, President (Qualifying Individual).

Ocean Freight Forwarder—Ocean Transportation Intermediary Applicants:

Customs Clearance International, Inc., 880 Apollo Street, #334, El Segundo, CA 90245. Officers: William Robert Wratschko, Vice President (Qualifying Individual) John Max Schepers, President.

Relco Inc., 15247 32nd Avenue South, SeaTac, WA 98188. Officers: Clifford N. Buisan, Vice President (Qualifying Individual) Michael Benjaminson, President.

A.J. Keeler U.S.A. Incorporated, 4605 Barranca Parkway, #101C, Irvine, CA 92604-1726. Officers: Bryan B. Law, CEO (Qualifying Individual) Diane E. Wright, Secretary.

Cargo Logistics LLC, 45 Sycamore Avenue, Suite 934, Charleston, SC 29407. Officer: Chadwick Rundle, President (Qualifying Individual).

Dated: July 29, 2005.
Bryant L. VanBrakle,
Secretary.

[FR Doc. 05-15350 Filed 8-2-05; 8:45 am]

BILLING CODE 6730-01-P